DEPARTMENT OF EDUCATION

Notice of Submission for OMB Review; Office of Planning, Evaluation and Policy Development; Case Studies of Current and Former Grantees under the Title III National Professional Development Program (NPDP)

SUMMARY: The purpose of the National Professional Development Program, which is administered by the Office of English Language Acquisition, is to support pre-service education and professional development activities intended to improve instruction for English Learners (ELs).

DATES: Interested persons are invited to submit comments on or before June 25, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04823. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Case Studies of Current and Former Grantees under the Title III National Professional Development Program (NPDP).

OMB Control Number: Pending.

Type of Review: New.

Total Estimated Number of Annual Responses: 438.

Total Estimated Number of Annual Burden Hours: 450.

Abstract: Grants are made to Institutions of Higher Education that have entered into consortium arrangements with states or school districts. Funded projects are designed to increase the pool of highly-qualified teachers prepared to serve EL students and increase the skills of teachers already serving them.

The purpose of this study is to examine how a sample of grantees is implementing their grants with respect to four areas: (1) The content and structure of the education they provide to current and prospective teachers of English Learners; (2) the nature of changes they attempt to make to the full teacher education program at their institutions; (3) the efforts grantees make to institutionalize their projects so that they can be sustained after the grant ends; and (4) their efforts to track former program participants. Information gathered on these four topics will be used to identify issues that could be investigated in a larger, more representative study.

This study will consist of 15 purposively-selected current grantees and nine purposively-selected former grantees. The case study sites will be selected from among the grantees in the 2007 cohort (“current grantees”) and those in the 2002 and 2004 cohorts (“former grantees”), and will provide information on some of the pre-service and in-service teacher training models and approaches that current grantees are using, as well as strategies that former grantees have used to track newly-minted teachers after program completion and to plan for continuing program services after the federal grant period.

The study will collect data from the current grantees through site visits and from the former grantees through telephone interviews.

Dated: May 18, 2012.
Stephanie Valentine,
Acting Director, Information Collection Clearance Division, Privacy, Information and Records Management Services, Office of Management.

[FR Doc. 2012-12608 Filed 5-23-12; 8:45 am]

BILLING CODE 4000-01-P